DEPARTMENT OF TRANSPORTATION

Federal Aviation Administration

14 CFR Part 71

[Docket No. FAA-2021-0913; Airspace Docket No. 21-ASO-11]

RIN 2120-AA66

Amendment of Area Navigation (RNAV) Routes; Southeastern United States

AGENCY: Federal Aviation Administration (FAA), DOT.

ACTION: Final rule.

SUMMARY: This action amends five high altitude area navigation (RNAV) routes (Q-routes), and establishes one new Q- route in the southeastern United States in support of the VHF Omnidirectional Range (VOR) Minimum Operational Network (MON) Program. This action improves the efficiency of the National Airspace System (NAS) by expanding the availability of RNAV routing and reducing the dependency on ground-based navigational systems.

DATES: Effective date 0901 UTC, May 19, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2021-0913, in the Federal Register (86 FR 67367; November 26, 2021), to amend five existing Q-routes, and establish one new Q-route, in the southeastern United States to support the VOR MON program.

Interested parties were invited to participate in this rulemaking effort by submitting written comments on the proposal. No comments were received.

RNAV routes are published in paragraph 2006 of FAA Order JO 7400.11F dated August 10, 2021, and effective September 15, 2021, which is incorporated by reference in 14 CFR 71.1. The RNAV routes listed in this document will be subsequently published in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

The FAA is amending 14 CFR part 71 by amending five existing Q-routes, and establishing one new Q-route, in the southeastern United States to support the VOR MON program.

The Q-route amendments are as follows:

Q-65: Q-65 currently extends between the MGNTY, FL, waypoint (WP) and the Rosewood, OH, (ROD) VOR and Tactical Air Navigational System (VORTAC). The FAA is removing the Rosewood VORTAC and replacing it with the RINTE, OH, WP, which is located 50 feet east of the VORTAC. Additionally, the FAA is amending Q-65 by shifting the route slightly east from the ENEME, GA, WP, to the DAREE, GA, WP, and by removing the JEFOI, GA, WP; the TRASY, GA, WP; and the CESKI, GA, WP while adding the KERLY, GA, WP. As amended Q-65 extends from the MGNTY, FL, WP to the RINTE, OH, WP.

Q-77: Q-77 currently extends between the OCTAL, FL, WP and the WIGVO, GA, WP. The FAA is extending the current route northerly from the WIGVO, GA, WP to the HRTWL, SC, WP. As amended, Q-77 extends from the OCTAL, FL, WP to the HRTWL, SC, WP.

Q-93: Q-93 currently extends between the MCLAW, FL, WP and the QUIWE, SC, WP. The FAA is extending the current route to the northwest from the QUIWE, SC, WP to the HEVAN, IN, WP. The following WPs are added between QUIWE and HEVAN: JEPEX, SC, WP; BENBY, NC, WP; DOOGE, VA, WP; HAPKI, KY, WP; TONIO, KY, Fix; and OCASE, KY, WP. As amended, Q-93 extends between the MCLAW, FL, WP and the HEVAN, IN, WP.

Q-103: Q-103 currently extends between the CYNTA, GA, WP and the AIRRA, PA, WP. The FAA is removing the Pulaski, VA, (PSK) VORTAC and replacing it with the DANCO, VA, WP, which is located 138 feet east of the PSK VORTAC. As amended, Q-103 extends between the CYNTA, GA, WP, and the AIRRA, PA, WP.

Q-116: Q-116 currently extends between the Vulcan, AL, (VUZ) VORTAC, and the OCTAL, FL, WP. The FAA is removing the Vulcan, AL, (VUZ) VORTAC and replacing it with the VLKNN, AL, WP, which is located 49 feet east of the VUZ VORTAC. The FAA is also extending Q-116 northwest to the Springfield, MO, (SGF) VORTAC, and adding the following points prior to the VLKNN, AL, WP: LOBBS, AL, Fix; GOOGY, AL, WP; MEMFS, TN, WP; LUKKY, AR, WP; ZAVEL, AR, WP; and the Springfield VORTAC. As amended, Q-116 extends between the Springfield, MO, (SGF) VORTAC and the OCTAL, FL, WP.

The new Q-route is as follows:

Q-139: Q-139 provides area navigation between the MGMRY, AL, WP, and the RINTE, OH, WP, reducing the need for ground based navigational aids. Between the MGMRY and RINTE WPs, the route consists of the following points: VLKNN, AL, WP; SALMS, TN, Fix; HITMN, TN, WP; Louisville, KY, (IIU) VORTAC; GBEES, KY, WP; HICKI, IN, Fix; and CREEP, OH, Fix.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending five RNAV routes (Q-routes), and establishing one new Q- route, in support of efforts transitioning the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2006 United States Area Navigation Routes.

* * * * *

Q-65 MGNTY, FL to RINTE, OH [Amended]
MGNTY, FL | WP | (Lat. 28°01′32.99″ N, long. 082°53′19.71″ W)
DOFFY, FL | WP | (Lat. 29°15′22.73″ N, long. 082°31′38.10″ W)
FETAL, FL | WP | (Lat. 30°11′03.69″ N, long. 082°30′24.76″ W)
ENEME, GA | WP | (Lat. 30°42′12.09″ N, long. 082°26′09.31″ W)
KERLY, GA | WP | (Lat. 32°04′46.68″ N, long. 082°22′04.90″ W)
DAREE, GA | WP | (Lat. 34°37′35.72″ N, long. 083°51′35.03″ W)
LORNN, TN | WP | (Lat. 35°21′16.33″ N, long. 084°14′19.35″ W)
SOGEE, TN | WP | (Lat. 36°31′50.64″ N, long. 084°11′35.39″ W)
ENGRA, KY | WP | (Lat. 37°29′02.34″ N, long. 084°15′02.15″ W)
OCASE, KY | WP | (Lat. 38°23′59.05″ N, long. 084°11′05.32″ W)
RINTE, OH | WP | (Lat. 40°17′16.11″ N, long. 084°02′34.51″ W)
* * * * * * *
Q-77 OCTAL, FL to HRTWL, SC [Amended]
OCTAL, FL | WP | (Lat. 26°09′01.92″ N, long. 080°12′11.60″ W)
MATLK, FL | WP | (Lat. 27°49′36.54″ N, long. 080°57′04.27″ W)
STYMY, FL | WP | (Lat. 28°02′12.25″ N, long. 081°09′05.47″ W)
WAKKO, FL | WP | (Lat. 28°20′31.57″ N, long. 081°18′32.14″ W)
MJAMS, FL | WP | (Lat. 28°55′37.59″ N, long. 081°36′33.30″ W)
ETORE, FL | WP | (Lat. 29°41′49.00″ N, long. 081°40′47.75″ W)
SHRKS, FL | WP | (Lat. 30°37′23.23″ N, long. 081°45′59.13″ W)
TEUFL, GA | WP | (Lat. 31°52′00.46″ N, long. 082°01′04.56″ W)
WIGVO, GA | WP | (Lat. 32°27′24.00″ N, long. 082°02′18.00″ W)
MELKR, SC | WP | (Lat. 33°37′09.61″ N, long. 082°06′46.45″ W)
HRTWL, SC | WP | (Lat. 34°15′05.33″ N, long. 082°09′15.55″ W)
* * * * * * *
Q-93 MCLAW, FL to HEVAN, IN [Amended]
MCLAW, FL | WP | (Lat. 24°33′49.00″ N, long. 081°01′00.00″ W)
VAULT, FL | WP | (Lat. 24°45′54.75″ N, long. 081°00′33.72″ W)
LINEY, FL | WP | (Lat. 25°16′44.02″ N, long. 080°53′15.43″ W)
FOBIN, FL | WP | (Lat. 25°47′02.00″ N, long. 080°46′00.89″ W)
EBAYY, FL | WP | (Lat. 27°43′40.20″ N, long. 080°30′03.59″ W)
MALET, FL | Fix | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
GIPPL, GA | WP | (Lat. 31°22′53.96″ N, long. 081°09′53.70″ W)
SUSYQ, GA | WP | (Lat. 31°40′54.28″ N, long. 081°12′07.99″ W)
ISUZO, GA | WP | (Lat. 31°57′47.85″ N, long. 081°14′14.79″ W)
GURGE, SC | WP | (Lat. 32°29′02.26″ N, long. 081°12′41.48″ W)
FISHO, SC | WP | (Lat. 33°16′46.25″ N, long. 081°24′43.52″ W)
QUIWE, SC | WP | (Lat. 33°57′05.56″ N, long. 081°30′07.93″ W)
JEPEX, SC | WP | (Lat. 34°58′29.40″ N, long. 081°44′15.11″ W)
BENBY, NC | WP | (Lat. 35°44′54.69″ N, long. 081°55′16.68″ W)
DOOGE, VA | WP | (Lat. 36°48′38.93″ N, long. 082°35′14.37″ W)
HAPKI, KY | WP | (Lat. 37°04′55.73″ N, long. 082°51′02.62″ W)
TONIO, KY | Fix | (Lat. 37°15′15.20″ N, long. 083°01′47.53″ W)
OCASE, KY | WP | (Lat. 38°23′59.05″ N, long. 084°11′05.32″ W)
HEVAN, IN | WP | (Lat. 39°21′08.86″ N, long. 085°07′46.70″ W)
* * * * * * *
Q-103 CYNTA, GA to AIRRA, PA [Amended]
CYNTA, GA | WP | (Lat. 30°36′27.06″ N, long. 082°05′35.45″ W)
PUPYY, GA | WP | (Lat. 31°24′35.58″ N, long. 081°49′06.19″ W)
RIELE, SC | WP | (Lat. 32°37′27.14″ N, long. 081°23′34.97″ W)
EMCET, SC | WP | (Lat. 34°09′41.99″ N, long. 080°50′12.51″ W)
SLOJO, SC | WP | (Lat. 34°38′46.31″ N, long. 080°39′25.63″ W)
DANCO, VA | WP | (Lat. 37°05′15.75″ N, long. 080°42′46.45″ W)
ASBUR, WV | Fix | (Lat. 37°49′24.41″ N, long. 080°27′51.44″ W)
OAKLE, WV | Fix | (Lat. 38°07′13.80″ N, long. 080°21′44.84″ W)
PERRI, WV | Fix | (Lat. 38°17′50.49″ N, long. 080°18′05.11″ W)
PERKS, WV | Fix | (Lat. 38°39′40.84″ N, long. 080°10′29.36″ W)
RICCS, WV | WP | (Lat. 38°55′14.65″ N, long. 080°05′01.68″ W)
EMNEM, WV | WP | (Lat. 39°31′27.12″ N, long. 080°04′28.21″ W)
AIRRA, PA | WP | (Lat. 41°06′16.48″ N, long. 080°03′48.73″ W)
* * * * * * *
Q-116 Springfield, MO (SGF) to OCTAL, FL [Amended]
Springfield, MO (SGF) | VORTAC | (Lat. 37°21′21.41″ N, long. 093°20′02.55″ W)
ZAVEL, AR | WP | (Lat. 36°15′28.92″ N, long. 091°43′13.51″ W)
LUKKY, AR | WP | (Lat. 36°07′51.19″ N, long. 091°32′20.04″ W)
MEMFS, TN | WP | (Lat. 35°00′54.62″ N, long. 089°58′58.87″ W)
GOOGY, AL | WP | (Lat. 34°01′38.41″ N, long. 087°41′31.45″ W)
LOBBS, AL | Fix | (Lat. 33°54′31.88″ N, long. 087°25′38.09″ W)
VLKNN, AL | WP | (Lat. 33°40′12.47″ N, long. 086°53′58.83″ W)
DEEDA, GA | WP | (Lat. 31°34′13.55″ N, long. 085°00′31.10″ W)
JAWJA, FL | WP | (Lat. 30°10′25.55″ N, long. 083°48′58.94″ W)
MICES, FL | WP | (Lat. 29°51′37.65″ N, long. 083°33′18.30″ W)
DEANR, FL | WP | (Lat. 29°15′30.40″ N, long. 083°03′30.24″ W)
PATOY, FL | WP | (Lat. 29°03′52.49″ N, long. 082°54′00.09″ W)
SMELZ, FL | WP | (Lat. 28°04′59.00″ N, long. 082°06′34.00″ W)
SHEEK, FL | WP | (Lat. 27°35′15.40″ N, long. 081°46′27.82″ W)
JAYMC, FL | WP | (Lat. 26°58′51.00″ N, long. 081°22′08.00″ W)
OCTAL, FL | WP | (Lat. 26°09′01.92″ N, long. 080°12′11.60″ W)
* * * * * * *
Q-139 MGMRY, AL to RINTE, OH [New]
MGMRY, AL | WP | (Lat. 32°13′20.78″ N, long. 086°19′11.24″ W)
VLKNN, AL | WP | (Lat. 33°40′12.47″ N, long. 086°53′58.83″ W)
SALMS, TN | Fix | (Lat. 35°00′03.25″ N, long. 086°47′07.79″ W)
HITMN, TN | WP | (Lat. 36°08′12.47″ N, long. 086°41′05.25″ W)
Louisville, KY (IIU) | VORTAC | (Lat. 38°06′12.47″ N, long. 085°34′38.77″ W)
GBEES, KY | Fix | (Lat. 38°41′54.72″ N, long. 085°10′13.03″ W)
HICKI, IN | Fix | (Lat. 39°01′06.95″ N, long. 084°56′52.83″ W)
CREEP, OH | Fix | (Lat. 39°55′15.28″ N, long. 084°18′31.41″ W)
RINTE, OH | WP | (Lat. 40°17′16.11″ N, long. 084°02′34.51″ W)

* * * * *

Issued in Washington, DC, on March 9, 2022.
Scott M. Rosenbloom,
Manager, Airspace Rules and Regulations.

[FR Doc. 2022-05338 Filed 3-14-22; 8:45 am]

BILLING CODE 4910-13-P